DEPARTMENT OF THE TREASURY

Submission for OMB Review, Comment Request

ACTION: Notice and request for comments.

SUMMARY: The Department of the Treasury, on behalf of itself and the United States Bureau of Engraving and Printing (BEP) and as part of its continuing effort to reduce paperwork and respondent burden, invites the general public and other Federal agencies to comment on one new proposed information collection, as required by the Paperwork Reduction Act of 1995, Public Law 104-13 (44 U.S.C. 3506(c)(2)(A)). The BEP has requested and received approval for a generic clearance to conduct conference studies and focus groups. This generic clearance has allowed the BEP to collect information from attendees of conferences and gatherings for persons who are blind and visually impaired about which tactile features most effectively provide meaningful access to denominate United States paper currency. The new clearance will allow the BEP to engage in a scientific study that will help gauge the acuity with which blind and visually impaired persons can denominate United States paper currency using various, tactile features currently being evaluated. Initially, the BEP had planned to request a second generic clearance for the scientific study, allowing flexibility for multiple iterations and different protocols. However, given the results of research and the smaller studies conducted with the first generic clearance, BEP will request a stand-alone clearance for a more focused study. The 60-day notice for the initial generic clearance was published in the Federal Register on January 30, 2012 (77 FR 4626). No comments were received.

DATES: Written comments should be received on or before June 10, 2013 to be assured of consideration.

ADDRESSES: Comments regarding these information collections should be addressed to the BEP Contact listed below and to the Treasury Department PRA Clearance Officer, Department of the Treasury, Room 11000, 1750 Pennsylvania Avenue NW., Washington, DC 20220.

FOR FURTHER INFORMATION CONTACT: Copies of the submission(s) may be obtained by contacting Sidney Rocke, Deputy Chief Counsel, United States Department of the Treasury, Bureau of Engraving and Printing, 14th and C Streets SW., Washington, DC 20228, by telephone at 202-874-2306, or by email at sidney.rocke@bep.gov.

SUPPLEMENTARY INFORMATION: Title: Study for Meaningful Access Determination.

OMB Control Number: NEW.

Abstract: A court order was issued in American Council of the Blind v. Paulson, 591 F. Supp. 2d 1 (D.D.C. 2008) (“ACB v. Paulson”) requiring the Department of the Treasury and BEP to “provide meaningful access to United States currency for blind and other visually impaired persons, which steps shall be completed, in connection with each denomination of currency, not later than the date when a redesign of that denomination is next approved by the Secretary of the Treasury . . .”

In compliance with the court's order, BEP intends to meet individually with blind and visually impaired persons and request their feedback about tactile features that BEP is considering for possible incorporation into the next U.S. paper currency redesign. BEP employees will attend national conventions and conferences for disabled persons.

The BEP intends to contract with a specialist in the field of tactile acuity to conduct scientific tests. The specialist contracted with by the BEP will conduct acuity testing with select groups of blind and visually impaired volunteers. The acuity tests will help either confirm or provide other perspectives on the results of BEP's information collections at national conferences and conventions. The acuity tests will also help provide a scientific basis on which BEP determines the tactile feature to be incorporated into the next United States paper currency design.

The BEP's information collection activities at national conferences may use identical methodologies or otherwise share a common element as those employed by a specialist contracted with by BEP to perform a scientific acuity study.

Type of Review: New Collection.

Affected Public: Individuals, Organizations.

Respondent's Obligation: Voluntary.

The study will likely involve up to 500 subjects. Each individual data collection session will be approximately 60 minutes long.

Estimated Average Time per Respondent: 60 minutes per response.

Estimated Total Annual Burden Hours: Approximately 500 burden hours.

Request for Comments: Comments submitted in response to this notice will be summarized and/or included in the request for Office of Management and Budget approval. All comments will become a matter of public record. The public is invited to submit written comments concerning: (a) Whether the collection of information is necessary for the proper performance of the functions of the Bureau, including whether the information will have practical uses; (b) the accuracy of the above estimate of the burden of the proposed information collection; (c) ways to enhance the quality, usefulness, and clarity of the information to be collected; and (d) ways to minimize the reporting burdens on respondents, including the use of automated collection techniques or other forms of information technology.

Direct Comments To: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

Robert Dahl,
Treasury Department PRA Clearance Officer.

[FR Doc. 2013-11013 Filed 5-8-13; 8:45 am]

BILLING CODE 4810-25-P